DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by May 30, 2023. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Agricultural Resource Management Phases 3 Economic Surveys.

OMB Control Number: 0535-NEW.

Summary of Collection: The primary functions of the National Agricultural Statistics Service (NASS) are to prepare and issue State and national estimates of crop and livestock production, disposition, and prices and to collect information on related environmental and economic factors. Detailed economic and environmental data for various crops and livestock help to maintain a stable economic atmosphere and reduce the risk for production, marketing, and distribution operations. The Agricultural Resource Management Surveys (ARMS), are the primary source of information for the U.S. Department of Agriculture on a broad range of issues related to agricultural resource use, cost of production, and farm sector financial conditions. NASS uses a variety of survey instruments to collect the information in conjunction with these studies. General authority for these data collection activities is granted under U.S. Code title 7, section 2204.

This information collection request will focus on the Agricultural Resource Management Phase 3 Surveys. The previous two phases of ARMS will be submitted as a separate information collection request. The requests are being separated to better accommodate changes requested by data users and policy makers.

Need and Use of the Information: ARMS is the only annual source of whole farm information available for objective evaluation of many critical issues related to agriculture and the rural economy, such as: Production practices for certain livestock commodities; as well as whole farm finance data, marketing information, and input usage. Without these data, decision makers cannot analyze and report on critical issues that affect farms and farm households.

Description of Respondents: Farms; Business or other for-profit.

Number of Respondents: 43,817.

Frequency of Responses: Reporting: Annually, monthly.

Total Burden Hours: 70,556.

National Agricultural Statistics Service

Title: Agricultural Resource Management Phases 1 & 2 and Chemical Use Surveys.

OMB Control Number: 0535-0218.

Summary of Collection: The primary functions of the National Agricultural Statistics Service (NASS) are to prepare and issue State and national estimates of crop and livestock production, disposition, and prices and to collect information on related environmental and economic factors. Detailed economic and environmental data for various crops and livestock help to maintain a stable economic atmosphere and reduce the risk for production, marketing, and distribution operations. The Agricultural Resource Management Surveys (ARMS), are the primary source of information for the U.S. Department of Agriculture on a broad range of issues related to agricultural resource use, cost of production, and farm sector financial conditions. NASS uses a variety of survey instruments to collect the information in conjunction with these studies. General authority for these data collection activities is granted under U.S. Code title 7, section 2204.

This information collection request will focus on the Agricultural Resource Management Phases 1 and 2 as well as Chemical Use Surveys. The ARMS Phase 3 Cost and Returns Report will be submitted as a separate information collection request. The requests are being separated to better accommodate changes requested by data users and policy makers.

Need and Use of the Information: ARMS is the only annual source of whole farm information available for objective evaluation of many critical issues related to agriculture and the rural economy. This issues that will be addressed in this request are: input usage, production practices, and chemical use. Without these data, decision makers cannot analyze and report on critical issues that affect farms and farm households when pesticide regulatory actions are being considered.

Description of Respondents: Farms; Business or other for-profit.

Number of Respondents: 114,083.

Frequency of Responses: Reporting: Annually.

Total Burden Hours: 51,222.

Levi S. Harrell,
Departmental Information Collection Clearance Officer.

[FR Doc. 2023-08925 Filed 4-26-23; 8:45 am]

BILLING CODE 3410-20-P